GENERAL SERVICES ADMINISTRATION

48 CFR Part 512

[GSAR Case 2022-G506, Docket No. 2022-0020; Sequence No. 1]

RIN 3090-AK57

General Services Administration Acquisition Regulation; Standardizing the Identification of Deviations in the General Services Administration Acquisition Regulation; Correction

AGENCY: Office of Acquisition Policy, General Services Administration (GSA).

ACTION: Final rule; correction.

SUMMARY: GSA is issuing a correction to GSAR Case 2022-G506; Standardizing the Identification of Deviations in the General Services Administration Acquisition Regulation; which published in the Federal Register on Jul 3, 2024, and is effective August 2, 2024. This correction makes an update to the reference to “commercial Services”.

DATES: Effective: August 2, 2024.

FOR FURTHER INFORMATION CONTACT: Bryon Boyer, Bryon.Boyer@gsa.gov or call 817-850-5580. Please cite GSAR Case 2022-G506, Correction.

SUPPLEMENTARY INFORMATION:

Correction

In rule FR Doc. 2024-14416, published in the Federal Register at 89 FR 55085, on July 3, 2024, on page 55086, in the first column, in section 512.301, amendatory instruction “3a.” is corrected to read “a. Amending the section heading by removing “commercial services” and adding “commercial services (FAR DEVIATION)” in its place; and”

Jeffrey A. Koses,
Senior Procurement Executive, Office of Acquisition Policy, Office of Government-wide Policy, General Services Administration.

[FR Doc. 2024-16344 Filed 7-31-24; 8:45 am]

BILLING CODE 6820-61-P